DEPARTMENT OF THE INTERIOR

Bureau of Land Management

[LL WO31000.L13100000.PB0000.24 1E]

Renewal of Information Collection

AGENCY: Bureau of Land Management, Interior.

ACTION: 30-day notice and request for comments.

SUMMARY: The Bureau of Land Management (BLM) has submitted an information collection request to the Office of Management and Budget (OMB) for a 3-year extension of OMB Control Number 1004-0162 under the Paperwork Reduction Act. The respondents are required to provide certain information in order to conduct onshore oil and gas geophysical exploration on lands managed by the BLM or by the U.S. Forest Service.

DATES: The OMB is required to respond to this information collection request within 60 days but may respond after 30 days. Therefore, you must submit your comments to the OMB at the address below on or before May 29, 2012.

ADDRESSES: Please submit comments directly to the Desk Officer for the Department of the Interior (OMB #1004-0162, Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0162” regardless of the form of your comments.

Before including your address, telephone number, email address, or other personal identifying information in your comment, be advised that your entire comment—including your personal identifying information—may be made publicly available at any time. While you can ask in your comment to withhold from public review your personal identifying information, we cannot guarantee that we will be able to do so.

FOR FURTHER INFORMATION CONTACT: Barbara Gamble, Division of Fluid Minerals, at (202) 912-7148 (Commercial or FTS). Persons who use a telecommunications device for the deaf (TDD) may call the Federal Information Relay Service (FIRS) on 1-800-877-8330 to leave a message for Ms. Gamble. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. 44 U.S.C. 3506 and 3507. In order to obtain and renew an OMB control number, Federal agencies are required to seek public comment on information collection and recordkeeping activities (see 5 CFR 1320.8(d) and 1320.12(a)).

On December 13, 2011, the BLM published a 60-day notice (76 FR 77550) requesting comments on the proposed information collection. The comment period ended February 13, 2012. No comments were received.

The following information is provided for the information collection:

Title: Onshore Oil and Gas Geophysical Exploration (43 CFR Part 3150 and 36 CFR Parts 228 and 251).

Forms

• BLM Form 3110-4/FS Form 2800-16, Notice of Intent and Authorization to Conduct Oil and Gas Geophysical Exploration Operations; and

• BLM Form 3110-5/FS Form 2800-16a, Notice of Completion of Oil and Gas Geophysical Exploration Operations.

OMB Control Number: 1004-0162.

Abstract: Respondents supply information that enables the BLM and the U.S. Forest Service to ensure that geophysical exploration is conducted in a manner consistent with applicable statutes, regulations, land use plans, and environmental documents.

Frequency of Collection: On occasion.

Estimated Number and Description of Respondents: 1,253 entities undertaking oil and gas geophysical exploration, i.e., activity relating to the search for evidence of oil and gas on lands managed by the BLM or the FS.

Estimated Reporting and Recordkeeping “Hour” Burden: 836 hours.

Estimated “Non-Hour” Burden: $75.

The following table details the individual components and respective hour burdens of this information collection request:

Table 12-2—Estimates of Hour Burdens
A. | B. | C. | D.
Type of response | Number of responses | Time per response | Total hours (column B × column C)
Notice of Intent and Request To Conduct Geophysical Exploration Operations/Outside Alaska 43 CFR 3151.1 BLM Form 3150-4/ FS Form 2800-16 | 622 (597 to BLM and 25 to FS) | 1 hour | 622
Notice of Intent and Request To Conduct Geophysical Exploration Operations/Alaska 43 CFR 3152.1 BLM Form 3150-4 | 3 | 1 hour | 3
Notice of Completion of Geophysical Exploration Operations 43 CFR 3151.2 and 3152.7 BLM Form 3150-5/ FS Form 2800-16a | 625 (600 to BLM and 25 to FS) | 20 minutes | 208
Data and Information Obtained in Carrying Out Exploration Plan (Alaska only) 43 CFR 3152.6 | 3 | 1 hour | 3
Totals | 1,253 |  | 836

Jean Sonneman,
Bureau of Land Management, Information Collection Clearance Officer.

[FR Doc. 2012-10042 Filed 4-25-12; 8:45 am]

BILLING CODE 4310-84-P